NUCLEAR REGULATORY COMMISSION

Notice of Availability; Draft NUREG-1574, Revision 2, “Standard Review Plan on Transfer and Amendment of Antitrust License Conditions and Antitrust Enforcement”

AGENCY: Nuclear Regulatory Commission.

ACTION: Standard Review Plan.

SUMMARY: The NRC is seeking public comment on draft NUREG-1574, Revision 2, entitled “Standard Review Plan on Transfer and Amendment of Antitrust License Conditions and Antitrust Enforcement.” This standard review plan (SRP) documents procedures and guidance to be used by the staff to analyze license transfer applications and license amendment applications involving existing antitrust license conditions, to report to the Attorney General information indicating that a licensee's use of atomic energy appears to have violated the antitrust laws, and to take appropriate enforcement action for a licensee's violation of its antitrust license conditions. Because the SRP describes internal agency procedures and is based on existing Commission guidance in this area, the SRP is being published for interim use. However, the Commission is inviting public comment on the SRP and is interested in possible improvements to it. Public comments will be considered in evaluating the NRC review process in this area.

DATES: The public is invited to submit comments on the SRP by July 9, 2007. Comments received after this date will be considered if it is practical to do so, but assurance of consideration cannot be given except as to comments received on or before this date. On the basis of the submitted comments, the Commission will determine whether to modify the SRP before issuing it in final form.

ADDRESSES: You may submit comments by any one of the following methods. Comments submitted in writing or electronic form will be made available for public inspection. Mail comments to: Chief, Rulemaking, Directives, and Editing Branch, Office of Administration, U.S. Nuclear Regulatory Commission, Mail Stop T6-D59, Washington, DC 20555-0001. Hand deliver comments, addressed to the above, to: 11555 Rockville Pike, Rockville, Maryland 20852, between 7:30 a.m. and 4:15 p.m. on Federal workdays.

Publicly available documents may be viewed electronically on the public computers located at the NRC's Public Document Room (PDR), One White Flint North, 11555 Rockville Pike, Room O1-F21, Rockville, Maryland. The PDR reproduction contractor will copy documents for a fee. The public can gain entry into the NRC's Agencywide Document Access and Management System (ADAMS) through the agency's public Web site at http://www.nrc.gov. This web site provides text and image files of the NRC's public documents. If you do not have access to ADAMS or if there are problems in accessing the documents located in ADAMS, contact the NRC Public Document Room (PDR) Reference Staff at 1-800-397-4209, 301-415-4737 or by email to pdr@nrc.gov.

A copy of the final supporting statement may be viewed free of charge at the NRC Public Document Room, One White Flint North, 11555 Rockville Pike, Room O-1 F21, Rockville, Maryland.

FOR FURTHER INFORMATION CONTACT: Steven R. Hom, Office of Nuclear Reactor Regulation, Division of Policy and Rulemaking, U.S. Nuclear Regulatory Commission, Washington, DC 20555, telephone (301) 415-1537, e-mail srh@nrc.gov.

SUPPLEMENTARY INFORMATION: The draft NUREG-1574, Revision 2, entitled “Standard Review Plan on Transfer and Amendment of Antitrust License Conditions and Antitrust Enforcement” [ML070160586] reflects the Energy Policy Act of 2005's removal of the NRC's antitrust review responsibilities for applications for licenses under sections 103 and 104 of the Atomic Energy Act of 1954, as amended. The SRP provides guidance on the appropriate disposition of antitrust license conditions during license transfers and for the review of applications to amend antitrust license conditions outside of license transfers. The SRP also provides guidance regarding the NRC's responsibility to refer certain antitrust matters to the Attorney General, and regarding the NRC's enforcement of antitrust license conditions. The SRP supersedes NUREG-1574, Standard Review Plan on Antitrust Reviews, published December 1997, in its entirety.

Dated at Rockville, Maryland, this 29th day of May, 2007.
For the Nuclear Regulatory Commission.
Michael J. Case,
Director, Division of Policy and Rulemaking, Office of Nuclear Reactor Regulation.

[FR Doc. E7-10945 Filed 6-6-07; 8:45 am]

BILLING CODE 7590-01-P